DEPARTMENT OF HOMELAND SECURITY

Coast Guard

[Docket No. USCG-2021-0743]

National Chemical Transportation Safety Advisory Committee; November 2021 Teleconference

AGENCY: U.S. Coast Guard, Department of Homeland Security.

ACTION: Notice of Federal Advisory Committee teleconference meeting.

SUMMARY: The National Chemical Transportation Safety Advisory Committee (Committee) will meet via teleconference to discuss matters relating to the safe and secure marine transportation of hazardous materials. The meeting will be open to the public.

DATES:

Meeting: The Committee will hold an inaugural meeting by teleconference on Tuesday, November 2, 2021, from 1 p.m. until 3 p.m. Eastern Standard Time. Please note the teleconference may close early if the Committee has completed its business.

Comments and supporting documents: To ensure your comments are reviewed by Committee members before the teleconference, submit your written comments no later than October 26, 2021.

ADDRESSES: To join the teleconference or to request special accommodations, contact the individual listed in the FOR FURTHER INFORMATION CONTACT section no later than 1 p.m. on October 26, 2021, to obtain the needed information. The number of teleconference lines is limited and will be available on a first-come, first-served basis.

Instructions: You are free to submit comments at any time, including orally at the teleconference as time permits, but if you want Committee members to review your comment before the teleconference, please submit your comments no later than October 26, 2021. We are particularly interested in comments on the issues in the “Agenda” section below. We encourage you to submit comments through the Federal eRulemaking Portal at https://www.regulations.gov. If your material cannot be submitted using https://www.regulations.gov, call or email the individual in the FOR FURTHER INFORMATION CONTACT section of this document for alternate instructions. You must include the docket number [USCG-2021-0743]. Comments received will be posted without alteration at https://www.regulations.gov, including any personal information provided. You may wish to review the Privacy and Security notice available on homepage of https://www.regulations.gov and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions.

FOR FURTHER INFORMATION CONTACT: Lieutenant Ethan T. Beard, Alternate Designated Federal Officer of the National Chemical Transportation Safety Advisory Committee, 2703 Martin Luther King Jr. Ave. SE, Stop 7509, Washington, DC 20593-7509, telephone 202-372-1419, fax 202-372-8382 or Ethan.T.Beard@uscg.mil.

SUPPLEMENTARY INFORMATION: Notice of this meeting is given in accordance with the Federal Advisory Committee Act, (5. U.S.C. Appendix). The National Chemical Transportation Safety Advisory Committee was established on December 4, 2018, by section 601 of the Frank LoBiondo Coast Guard Authorization Act of 2018 (Pub. L. 115-282, 132 Stat. 4192). That authority is codified in 46 U.S.C. 15101. The Committee operates under the provisions of the Federal Advisory Committee Act and, in addition, the administrative provisions of 46 U.S.C. 15109. The Committee provides advice and recommendations to the Department of Homeland Security on matters related to the safe and secure marine transportation of hazardous materials.

Agenda

The agenda for the November 2, 2021, teleconference is as follows:

(1) Call to Order.

(2) Roll call and determination of quorum.

(3) Opening Remarks.

(4) Swearing-in of new members.

(5) Election by Committee members of Chairman and Vice-Chairman

(6) Presentation of Task.

The Coast Guard will present the task to the Committee:

LNG Carrier Loading Limits and Formation of Isolated Vapor Pockets.

(7) Public Comment period.

(8) Closing remarks/plans for next meeting.

(9) Adjournment of meeting.

A copy of all meeting documentation will be available at: https://homeportr.uscg.mil/missions/federal-advisory-committees/national-chemical-transportation-safety-advisory-committee-(nctsac)/committee-meetings no later than October 26, 2021. Alternatively, you may contact Lieutenant Ethan Beard as noted in the FOR FURTHER INFORMATION CONTACT section above.

During the November 2, 2021, teleconference, a public comment period will be held from approximately 2:45 p.m. to 3 p.m. Speakers are requested to limit their comments to 3 minutes. Please note that this public comment period may start before 2:45 p.m. if all other agenda items have been covered and may end before 3 p.m. if all of those wishing to comment have done so. Please contact Lieutenant Ethan T. Beard, listed in the FOR FURTHER INFORMATION CONTACT section to register as a speaker.

Dated: October 7, 2021.
Jeffrey G. Lantz,
Director of Commercial Regulations and Standards.

[FR Doc. 2021-22234 Filed 10-12-21; 8:45 am]

BILLING CODE 9110-04-P